DEPARTMENT OF AGRICULTURE

Office of the Secretary

Notice of the National Agricultural Research, Extension, Education, and Economics Advisory Board Specialty Crop Meeting and Executive Committee Meeting

AGENCY: Research, Education, and Economics, USDA.

ACTION: Notice of meeting.

SUMMARY: In accordance with the Federal Advisory Committee Act, 5 U.S.C. App 2, the United States Department of Agriculture announces a meeting of the National Agricultural Research, Extension, Education, and Economics Advisory Board Specialty Crop Committee and Executive Committee.

DATES: The National Agricultural Research, Extension, Education, and Economics Advisory Board Specialty Crop Committee will meet on August 24, 2006 and the Executive Committee will hold a meeting on August 25, 2006 at the Hilton Chicago O'Hare Airport, Chicago, Illinois.

ADDRESSES: The public may file written comments before or up to two weeks after the meeting with the contact person. You may submit comments by any of the following methods: E-mail: smorgan@csrees.usda.gov; Fax: (202) 720-6199; Mail/Hand-Delivery or Courier: The National Agricultural Research, Extension, Education, and Economics Advisory Board; Research, Education, and Economics Advisory Board Office, Room 344-A, Jamie L. Whitten Building, United States Department of Agriculture, STOP 2255, 1400 Independence Avenue, SW., Washington, DC 20250-2255.

FOR FURTHER INFORMATION CONTACT: Shirley Morgan-Jordan, Program Support Coordinator, National Agricultural Research, Extension, Education, and Economics Advisory Board; Telephone: (202) 720-8408.

SUPPLEMENTARY INFORMATION: On Thursday, August 24, 2006, from 9 a.m. to 4 p.m., the Specialty Crop Committee will hold a General meeting to study the scope and effectiveness of research, extension, and economics programs affecting the specialty crop industry. The purpose of Specialty Crop meeting is to obtain regional input on research and education issues of high priority focusing on “Measures to improve the efficiency, productivity and profitability of specialty crop production in the United States; Measures designed to improve competitiveness to research, extension, and economics programs affecting the specialty crop industry; and Review research projects underway by USDA's Research, Education, and Economics agencies and their collaboration in the Land Grant Universities and other organizations.” On Thursday, August 24, 2006, at 9 a.m. the focus session will begin with introductory remarks provided by the Chair of the Specialty Crop Committee. There will be brief introductions by Board members, incumbents, and guest officials and/or designated experts from the industry. Following the adjournment of the Specialty Crop Meeting, the Executive Committee will begin their Focus Session, on Friday, August 25, 2006, from 8 a.m. to 3 p.m. at the Hilton Chicago O'Hare Airport, Chicago, Illinois. The Executive Committee will focus on highlights concerning the “Farm Bill.” After the focus sessions the Board will discuss and recap highlights of the previous day's focus sessions, followed by overall Board discussions. You will hear remarks from a variety of distinguished leaders and experts, organizations or institutions, local producers, or other groups that are interested in the issues with which the Specialty Crop Committee is charged. Speakers will suggest recommendations regarding the Specialty Crop Committee's role by which USDA can enhance its research, extension, education, and economic programs to protect our Nation's food, fiber and agricultural system. Opportunities for increased collaboration and partnerships concerning Specialty Crops with the public and private sectors will also be discussed. An opportunity for public comment will be offered after the meeting wrap-up.

Written comments by attendees or other interested stakeholders will be welcomed for the public record before and up to two weeks following the Board meeting (by close of business Friday, September 8, 2006). The findings of the Specialty Crop Committee and Executive Committee will be based on input from speakers, other stakeholders, the general public, and Board discussions. They will be consolidated into recommendations to the Secretary of Agriculture and the House and Senate agriculture-related committee/subcommittees of the U.S. Congress, as well as be disseminated to the land-grant colleges and universities, as mandated. All statements will become a part of the official record of the National Agricultural Research, Extension, Education, and Economics Advisory Board and will be kept on file for public review in the Research, Extension, Education, and Economics Advisory Board Office.

Done at Washington, DC, this 24th day of July, 2006.
Gale Buchanan,
Under Secretary, Research, Education, and Economics.

[FR Doc. E6-12116 Filed 7-26-06; 8:45 am]

BILLING CODE 3410-22-P